ENVIRONMENTAL PROTECTION AGENCY

[EPA-R01-OAR-2013-0020; A-1-FRL-9776-2]

Adequacy Status of Motor Vehicle Emission Budgets for Transportation Conformity Purposes; Connecticut

AGENCY: Environmental Protection Agency (EPA).

ACTION: Notice of adequacy.

SUMMARY: In this notice, EPA is notifying the public that EPA has found that the 2017 and 2025 motor vehicle emissions budgets (MVEBs) in the June 22, 2012 Connecticut State Implementation Plan (SIP) revision are adequate for transportation conformity purposes. The submittal includes MOVES2010 motor vehicle emissions budgets for 2017 and 2025 for the Connecticut portion of the New York-Northern New Jersey-Long Island, NY-NJ-CT fine particle (PM2.5) nonattainment area. On March 2, 1999, the D.C. Circuit Court ruled that budgets in submitted SIPs cannot be used for conformity determinations until EPA has affirmatively found them adequate. As a result of our finding, the State of Connecticut can use the MOVES2010 motor vehicle emissions budgets from the submitted plan for future conformity determinations for the Connecticut portion of the New York-Northern New Jersey-Long Island, NY-NJ-CT PM2.5 area.

DATES: These motor vehicle emissions budgets are effective February 20, 2013.

FOR FURTHER INFORMATION CONTACT: Donald O. Cooke, Environmental Scientist, Air Quality Planning Unit, U.S. Environmental Protection Agency, EPA New England Regional Office, Five Post Office Square, Suite 100 (CAQ), Boston, MA 02109-3912, (617) 918-1668, cooke.donald@epa.gov.

SUPPLEMENTARY INFORMATION: Throughout this document, whenever “we,” “us” or “our” is used, we mean EPA.

Today's notice is simply an announcement of a finding that we have already made. EPA New England sent a letter to Connecticut Department of Energy and Environmental Protection on January 8, 2013, stating that the 2017 and 2025 MOVES2010 motor vehicle emissions budgets in the June 22, 2012 State Implementation Plan (SIP) are adequate for transportation conformity purposes. This finding will also be announced on EPA's conformity Web site: http://www.epa.gov/otaq/stateresources/transconf/adequacy.htm, (once there, click on “What SIP submissions has EPA already found adequate or inadequate?”). The adequate motor vehicle emissions budgets (MVEBs) are provided in the following table:

Adequate Motor Vehicle Emissions Budgets
| Direct PM2.5 (tons per year) | NOX (tons per year)
Year 2017 MVEBs for the Connecticut Portion of the New York-Northern New Jersey-Long Island, NY-NJ-CT 1997 annual PM2.5 and 2006 24-hour PM2.5 Area | 575.8 | 12,791.8
Year 2025 MVEBs for the Connecticut Portion of the New York-Northern New Jersey-Long Island, NY-NJ-CT 1997 annual PM2.5 and 2006 24-hour PM2.5 Area | 516 | 9,728.1

Transportation conformity is required by section 176(c) of the Clean Air Act. EPA's conformity rule requires that transportation plans, programs, and projects conform to state air quality implementation plans and establishes the criteria and procedures for determining whether or not they do conform. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in a May 14, 1999 memorandum entitled “Conformity Guidance on Implementation of March 2, 1999 Conformity Court Decision.” Additional guidance on EPA's adequacy process was published in a July 1, 2004 Federal Register final rulemaking, “Transportation Conformity Rule Amendments for the New 8-hour Ozone and PM2.5 National Ambient Air Quality Standards and Miscellaneous Revisions for Existing Areas; Transportation Conformity Rule Amendments: Response to Court Decision and Additional Rule Changes” (69 FR 40004). We followed this guidance in making our adequacy determination.

Authority: 42 U.S.C. 7401-7671q.

Dated: January 25, 2013.
H. Curtis Spalding,
Regional Administrator, EPA New England.

[FR Doc. 2013-02492 Filed 2-4-13; 8:45 am]

BILLING CODE 6560-50-P